DEPARTMENT OF EDUCATION

Extension of Application Deadline Date; Application for New Awards; Statewide Family Engagement Centers

AGENCY: Office of Elementary and Secondary Education, Department of Education.

ACTION: Notice.

SUMMARY: On December 20, 2021, the Department of Education (Department) published in the Federal Register a notice inviting applications (NIA) for the fiscal year (FY) 2022 Statewide Family Engagement Centers (SFEC) Program competition, Assistance Listing Number 84.310A. Because the SFEC application package was not posted on Grants.gov until January 10, 2022, we are extending the deadline for transmittal of applications to March 11, 2022. We are also extending the deadline for intergovernmental review until May 10, 2022.

DATES:

Deadline for transmittal of applications: March 11, 2022.

Deadline for intergovernmental review: May 10, 2022.

FOR FURTHER INFORMATION CONTACT: Beth Yeh, U.S. Department of Education, 400 Maryland Avenue SW, Room 3E335, Washington, DC 20202-6135. Telephone: (202) 205-5798. Email: beth.yeh@ed.gov.

If you use a telecommunications device for the deaf (TDD) or a text telephone (TTY), call the Federal Relay Service (FRS), toll free, at 1-800-877-8339.

SUPPLEMENTARY INFORMATION: On December 20, 2021, the Department published an NIA for the SFEC competition in the Federal Register (86 FR 71880). However, the SFEC application package was not posted on Grants.gov until January 10, 2022. Therefore, we are extending the deadline for transmittal of applications for the competition by 21 days until March 11, 2022, at 11:59:59 p.m. Eastern Time. This extension will allow applicants more time to prepare and submit their applications. Applicants that have already timely submitted applications under the FY 2022 SFEC competition may resubmit applications but are not required to do so. If a new application is not submitted, the Department will use the application that was submitted by the original deadline. If a new application is submitted, the Department will consider the application that is last submitted and timely received.

All other requirements and conditions stated in the NIA remain the same.

Program Authority: 20 U.S.C. 7241-46.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Ruth E. Ryder,
Deputy Assistant Secretary for Policy and Programs Office of Elementary and Secondary Education.

[FR Doc. 2022-03448 Filed 2-15-22; 8:45 am]

BILLING CODE 4000-01-P